NUCLEAR REGULATORY COMMISSION

Advisory Committee on Nuclear Waste and Materials; Meeting Notice

The Advisory Committee on Nuclear Waste and Materials (ACNW&M) will hold its 187th meeting on March 18-20, 2008, at 11545 Rockville Pike, Rockville, Maryland.

Tuesday, March 18, 2008, Room T-2B3

8:30 a.m.-8:35 a.m.: Opening Remarks by the ACNW&M Chairman (Open)—The Chairman will make opening remarks regarding the conduct of today's sessions.

8:35 a.m.-5 p.m.: Discussion of ACNW&M Letter Reports (Open)—The Committee will discuss proposed ACNW&M reports on matters considered during previous meetings:

(1) Review of ICRP Publication 103—The 2007 Recommendations of the International Commission on Radiological Protection (ICRP); (2) NRC 2007 Strategic Assessment of the Low-Level Radioactive Waste Regulatory Program; (3) Scope of the Working Group Meeting on Managing Low-Activity Radioactive Waste.

Wednesday, March 19, 2008, Room T-2B3

8:30 a.m.-8:35 a.m.: Opening Remarks by the ACNW&M Chairman (Open)—The Chairman will make opening remarks regarding the conduct of today's sessions.

8:35 a.m.-10:30 a.m.: Use of Burnup Credit for Licensing Spent Fuel Transportation Casks (Open)—The Committee will hear presentations by and hold discussions with representatives of the NRC Office of Nuclear Material Safety and Safeguards, Division of Spent Fuel Storage and Transportation, regarding the use of burnup credit (BUC) and the progress in resolving BUC issues for licensing spent fuel transportation casks.

10:45 a.m.-5 p.m.: Discussion of ACNW&M Letter Reports (Open)—The Committee will continue to discuss potential and proposed ACNW&M letter reports from earlier discussions as well as a potential letter on the Use of Burnup Credit for Licensing Spent Fuel Transportation Casks.

Thursday, March 20, 2008, Room T-2B1

8:30 a.m.-8:35 a.m.: Opening Remarks by the ACNW&M Chairman (Open)—The Chairman will make opening remarks regarding the conduct of today's sessions.

8:35 a.m.-5 p.m.: Discussion of ACNW&M Letter Reports (Open)—The Committee will continue to discuss potential and proposed ACNW&M letter reports.

Procedures for the conduct of and participation in ACNW&M meetings were published in the Federal Register on September 26, 2007 (72 FR 54693). In accordance with those procedures, oral or written views may be presented by members of the public. Electronic recordings will be permitted only during those portions of the meeting that are open to the public. Persons desiring to make oral statements should notify Dr. Antonio F. Dias (Telephone 301-415-6805), between 8:15 a.m. and 5 p.m. (ET), as far in advance as practicable so that appropriate arrangements can be made to schedule the necessary time during the meeting for such statements. Use of still, motion picture, and television cameras during the meeting may be limited to selected portions of the meeting as determined by the ACNW&M Chairman. Information regarding the time to be set aside for taking pictures may be obtained by contacting the ACNW&M office prior to the meeting. In view of the possibility that the schedule for ACNW&M meetings may be adjusted by the Chairman as necessary to facilitate the conduct of the meeting, persons planning to attend should notify Dr. Dias as to their particular needs.

Further information regarding topics to be discussed, whether the meeting has been canceled or rescheduled, as well as the Chairman's ruling on requests for the opportunity to present oral statements and the time allotted therefore can be obtained by contacting Dr. Dias.

Video teleconferencing service is available for observing open sessions of ACNW&M meetings. Those wishing to use this service for observing ACNW&M meetings should contact Mr. Theron Brown, ACRS/ACNW&M Audio Visual Assistant (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

During the days of the meeting, phone number 301-415-7360 should be used in order to access anyone in the ACNW&M Office.

ACNW&M meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/acnw (ACNW&M schedules and agendas).

Dated: February 27, 2008.
Andrew L. Bates,
Advisory Committee Management Office.

[FR Doc. E8-4123 Filed 3-3-08; 8:45 am]

BILLING CODE 7590-01-P